DEPARTMENT OF TRANSPORTATION

Federal Aviation Administration

14 CFR Part 183

[Docket No. FAA-2025-0092]

Notice of Availability of Draft FAA Notice N 8100.20 Regarding Organization Designation Authorization (ODA) Holder Ethics Training

AGENCY: Federal Aviation Administration (FAA), DOT.

ACTION: Notice of availability; request for comments.

SUMMARY: Draft FAA Notice N 8100.20 would incorporate the requirements of the FAA Reauthorization Act of 2024, which directs the FAA to ensure that each ODA holder has in effect a recurrent training program for all ODA unit personnel.

DATES: Send comments on or before July 17, 2025.

ADDRESSES: Send comments identified by docket number FAA-2025-0092, using any of the following methods:

Federal eRulemaking Portal: Go to https://www.regulations.gov and follow the online instructions for sending your comments electronically.

Mail: Send comments to Docket Operations, M-30, U.S. Department of Transportation (DOT), 1200 New Jersey Avenue SE, Room W12-140, West Building Ground Floor, Washington, DC 20590-0001.

Hand Delivery or Courier: Take comments to Docket Operations in Room W12-140 of the West Building Ground Floor at 1200 New Jersey Avenue SE, Washington, DC, between 9 a.m., and 5 p.m., Monday through Friday, except Federal holidays.

Fax: Fax comments to Docket Operations at (202) 493-2251.

Privacy: In addition to the final Notice revision, the FAA will post all comments it receives, without change, to https://regulations.gov, including any personal information the commenter provides. DOT's complete Privacy Act Statement can be found in the Federal Register published on April 11, 2000 (65 FR 19476).

FOR FURTHER INFORMATION CONTACT: Mr. Scott Geddie, Policy and Oversight Integration Section, AVS-64, AVS ODA Office, Federal Aviation Administration, by telephone at 405-954-6897 or by email at Scott.Geddie@faa.gov.

SUPPLEMENTARY INFORMATION:

Background

The FAA Reauthorization Act of 2024, Public Law 118-63 (2024) (the Act), amended Title 49 United States Code (U.S.C.) 44736 by imposing several provisions specific to the FAA's oversight of ODA holders. Section 304 of the Act added paragraph (g), Ethics Training Requirement for ODA Holders, to 49 U.S.C. 44736. Paragraph (g) requires the FAA to ensure that each ODA holder has in effect a recurrent training program, reviewed by the FAA, for all ODA unit personnel. Paragraph (g) also requires all ODA unit personnel to complete such ethics training within sixty days of appointment and annually thereafter and requires the FAA to establish the necessary processes to ensure that this training occurs. Draft Notice N 8100.20 would implement the new statutory requirement for ODA holders to develop and provide, and for all ODA unit personnel to take, initial and recurrent ethics training. The FAA intends that the policies contained in draft Notice N 8100.20 will be incorporated into a future revision of FAA Order 8100.15, Organization Designation Authorization Procedures.

Draft Notice N 8100.20 would affect all ODA holders. You may examine draft Notice N 8100.20 and an optional comment log template that may be helpful for providing comments in the docket or at: https://www.faa.gov/aircraft/draft_docs/.

Comments Invited

The FAA invites the public to submit comments on draft Notice N 8100.20, as specified in the ADDRESSES section of this Notice. Commenters should include docket number FAA-2025-0092 and the subject line, “Comments to Draft Notice N 8100.20, ODA Holder Provided Annual Ethics Training for UMs and Administrators” on all comments submitted to the FAA. The most helpful comments provide a specific recommendation, explain the reason for any recommended change, identify the paragraph(s) and/or subparagraph(s) associated with the recommendation, and include supporting information. The FAA will consider all comments received on or before the closing date before issuing the final Notice. The FAA will also consider late-filed comments if it is possible to do so without incurring expense or delay.

Scott A. Geddie,
Manager, AVS-64, Policy and Oversight Integration Section, AVS ODA Office.

[FR Doc. 2025-11125 Filed 6-16-25; 8:45 am]

BILLING CODE 4910-13-P